SURFACE TRANSPORTATION BOARD

[Docket No. FD 36067]

New Orleans Public Belt Railroad—Temporary Trackage Rights Exemption—Illinois Central Railroad Company

The New Orleans Public Belt Railroad (NOPB), a Class III rail carrier, has filed a verified notice of exemption under 49 CFR 1180.2(d)(8) for its acquisition of temporary overhead trackage rights over a line of railroad of the Illinois Central Railroad Company (IC), over two segments of IC's rail lines as follows: (1) IC's McComb Subdivision, between IC's connection with the Kansas City Southern Railway Company (KCS) at or near IC milepost 906.4 at East Bridge Junction in Shrewsbury, La., and IC milepost 900.8 at Orleans Junction in New Orleans, La. (approximately 5.6 miles), and (2) IC's Baton Rouge Subdivision, between IC milepost 444.2 at Orleans Junction and IC milepost 443.5 at Frellsen Junction in New Orleans, La. (approximately 0.7 miles), a total distance of approximately 6.3 miles the Line).

NOPB states that, pursuant to a written trackage rights agreement (Agreement) dated September 16, 2016,¹ IC has agreed to grant the specified temporary overhead trackage rights to New Orleans Public Belt Railroad (NOPB) over the Line. NOPB states that it intends to consummate the transaction on or after October 28, 2016, the effective date of the exemption (30 days after the verified notice of exemption was filed). The sole purpose of the trackage rights is to allow NOPB to temporarily interchange with KCS on KCS trackage which requires NOPB to operate over IC's 6.3 miles of trackage. The temporary trackage rights will expire on January 31, 2017.

¹ A redacted copy of the Agreement between NOPB and IC was filed with the notice. An unredacted copy was filed under seal along with a motion for protective order pursuant to 49 CFR 1194.14(a). That motion will be addressed in a separate decision.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption. Petitions for stay must be filed no later than October 21, 2016 (at least seven days before the exemption becomes effective).

An original and 10 copies of all pleadings, referring to Docket No. FD 36067, must be filed with the Surface Transportation Board, 395 E Street SW., Washington, DC 20423-0001. In addition, a copy of each pleading must be served on applicant's representative, Audrey L. Brodrick, Fletcher & Sippel LLC, 29 North Wacker Drive, Suite 920, Chicago, IL 60606.

According to NOPB, this action is categorically excluded from environmental review under 49 CFR 1105.6(c).

Board decisions and notices are available on our Web site at “WWW.STB.GOV.”

Decided: October 11, 2016.
By the Board, Rachel D. Campbell, Director, Office of Proceedings.
Kenyatta Clay,
Clearance Clerk.

[FR Doc. 2016-24909 Filed 10-13-16; 8:45 am]

BILLING CODE 4915-01-P